DEPARTMENT OF COMMERCE

National Oceanic and Atmospheric Administration

[RTID 0648-XD102]

Caribbean Fishery Management Council's Outreach and Education Advisory Panel; Public Meeting

AGENCY: National Marine Fisheries Service (NMFS), National Oceanic and Atmospheric Administration (NOAA), Commerce.

ACTION: Notice of a public hybrid meeting.

SUMMARY: The Caribbean Fishery Management Council's (Council) Outreach and Education Advisory Panel (OEAP) will hold a public hybrid meeting to address the items contained in the tentative agenda included in the SUPPLEMENTARY INFORMATION.

DATES: The OEAP public hybrid meeting will be held on July 19, 2023, from 9:30 a.m. to 5 p.m., AST.

ADDRESSES: The OEAP public hybrid meeting will be held at the Courtyard Isla Verde Beach Resort, 7012 Boca de Cangrejos Avenue, Carolina, Puerto Rico.

You may join the OEAP public hybrid meeting (via Zoom) from a computer, tablet or smartphone by entering the following address:

Join Zoom Meeting https://us02web.zoom.us/j/84039986774?pwd=SUhDc1hXeFloQWF3ajVtL2ZHRGN3Zz09

Meeting ID: 840 3998 6774

Passcode: 179728

One tap mobile

+17879667727,,84039986774#,,,,*179728# Puerto Rico

+19399450244,,84039986774#,,,,*179728# Puerto Rico

Dial by your location

+1 787 966 7727 Puerto Rico

+1 939 945 0244 Puerto Rico

+1 787 945 1488 Puerto Rico

+1 309 205 3325 US

+1 312 626 6799 US (Chicago)

+1 346 248 7799 US (Houston)

+1 360 209 5623 US

+1 386 347 5053 US

+1 507 473 4847 US

+1 564 217 2000 US

+1 646 931 3860 US

+1 669 444 9171 US

+1 669 900 6833 US (San Jose)

+1 689 278 1000 US

+1 719 359 4580 US

+1 929 205 6099 US (New York)

+1 253 205 0468 US

+1 253 215 8782 US (Tacoma)

+1 301 715 8592 US (Washington DC)

+1 305 224 1968 US

Meeting ID: 840 3998 6774

Passcode: 179728

Find your local number: https://us02web.zoom.us/u/kbLZjE6tAP

FOR FURTHER INFORMATION CONTACT: Miguel Rolón, Executive Director, Caribbean Fishery Management Council, 270 Muñoz Rivera Avenue, Suite 401, San Juan, Puerto Rico 00918-1903; telephone: (787) 398-3717.

SUPPLEMENTARY INFORMATION: The following items included in the tentative agenda will be discussed:

July 19, 2023

9:30 a.m.

—Call to Order

—Adoption of Agenda

9:45 a.m.-10:15 a.m.

—OEAP Chairperson's Report

—Updates:

—Meetings and Webinars Attended: CFMC 181st Meeting, Ponce, PR

—DAP Workshops, St. Croix, U.S.V.I. and Puerto Rico for Outreach & Education Materials for the IBFMPs

—EEJ Focus Group

—SSC EBFM TAP Joint Meeting

—NOAA Caribbean

—MREP

—Illustrated Booklet on Climate Change and U.S. Caribbean Fisheries

10:15 a.m.-10:20 a.m.

—Break

10:20 a.m.-11 a.m.

—Update on Status of the Fishery Ecosystem Plan (FEP)—Liajay Rivera

—Outreach Materials on MPAs in Puerto Rico—Vilmarie Román

11 a.m.-12 p.m.

—Update on Island-Based Fishery Management Plans

—Fact Sheets on IBFMP

12 p.m.-1 p.m.

—Lunch Break

1 p.m.-5 p.m.

—OEAP Recommendations of Outreach Strategies on IBFMPs for Puerto Rico, St. Thomas/St. John, and St. Croix, U.S.V.I.

—Liaisons Recommendations

—Liaisons Reports:

—Wilson Santiago—Puerto Rico

—Nicole Greaux—St. Thomas, U.S.V.I.

—Mavel Maldonado—St. Croix, U.S.V.I.

—CFMC Facebook, Instagram and YouTube Communications with Stakeholders

—Other Business

The order of business may be adjusted as necessary to accommodate the completion of agenda items. The meeting will begin on July 19, 2023, at 9:30 a.m., and will end on July 19, 2023, at 5 p.m., AST. Other than the start time, interested parties should be aware that discussions may start earlier or later than indicated, at the discretion of the Chair. In addition, the meeting may be completed prior to the date established in this notice.

Special Accommodations

For any additional information on this public hybrid meeting you may contact Diana Martino, Caribbean Fishery Management Council, 270 Muñoz Rivera Avenue, Suite 401, San Juan, Puerto Rico, 00918-1903; telephone: (787) 226-8849.

Authority: 16 U.S.C. 1801 et seq.

Dated: June 23, 2023.
Rey Israel Marquez,
Acting Deputy Director, Office of Sustainable Fisheries, National Marine Fisheries Service.

[FR Doc. 2023-13768 Filed 6-27-23; 8:45 am]

BILLING CODE 3510-22-P